DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans) and U.S. Army Corps of Engineers (USACE).

SUMMARY: The FHWA, on behalf of Caltrans, is issuing this notice to announce actions taken by Caltrans and USACE that are final. The actions relate to a proposed highway project, I-10 Blythe Pavement Rehabilitation Project in the County of Riverside, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 18, 2020. If the Federal law that authorizes judicial review of a claim provides a time period of less than 150 days for filing such claim, then that shorter time period still applies.

FOR FURTHER INFORMATION CONTACT: For Caltrans: Antonia Toledo, Senior Environmental Planner, California Department of Transportation-District 8, 464 W 4th Street, MS-820, San Bernardino, CA 92401. Office Hours: 8:00 a.m.-5:00 p.m., Pacific Standard Time, telephone, (909) 806-2541 or email Antonia.Toledo@dot.ca.gov. For USACE: Veronica C. Li, Project Manager, U.S. Army Corp of Engineers, 915 Wilshire Blvd., Los Angeles, CA 90017. Office Hours: 9:00 a.m. to 5:00 p.m., Pacific Standard Time, telephone, (213) 452-3292 or email veronica.c.li@usace.army.mil. For FHWA, contact David Tedrick at (916) 498-5024 or email david.tedrick@dot.gov.

SUPPLEMENTARY INFORMATION: Effective July 1, 2007, the FHWA assigned, and the Caltrans assumed, environmental responsibilities for this project pursuant to 23 U.S.C. 327. Notice is hereby given that Caltrans and USACE have taken final agency actions subject to 23 U.S.C. 139(l)(1) by issuing licenses, permits, and approvals for the following highway project in the State of California: Rehabilitation of the existing asphalt concrete (AC) pavement on Interstate 10 from Post Mile (PM) R104.9 to PM R134.0. in the County of Riverside. Rehabilitation Activities include removal and replacement of existing inside and outside shoulders, guardrails, rumble strips, drainage inlets, and dikes, and installation of oversized drains. The project will also involve upgrades to ramp facilities for ADA compliance, installation of two temporary detour lanes in the existing median, extension of existing rock slope protection at bridge locations, and hydroseeding the median for erosion control and vegetation restoration. The primary purpose of this project is to restore and extend the life of existing pavement for a minimum of forty years, enhance trip reliability, and consequently minimize expenditures associated with future maintenance. The actions by the Federal agencies, and the laws under which such actions were taken, are described in the Final Environmental Assessment (FEA)/Finding of No Significant Impact (FONSI) for the project, approved on November 8, 2019, and in other documents in Caltrans' project records. The FEA, FONSI and other project records are available by contacting Caltrans at the addresses provided above. The USACE decision are available by contacting USACE at the address provided above.

This notice applies to all Federal agency decisions as of the issuance date of this notice and all laws under which such actions were taken, including but not limited to:

1. National Environmental Policy Act of 1969, as amended, 42 U.S.C. 4331(b)(2)

2. Federal Highway Act of 1970, U.S.C. 772

3. Federal Clean Air Act, as amended

4. Clean Water Act of 1977 and 1987

5. Federal Water Pollution Control Act of 1972

6. Safe Drinking Water Act of 1944, as amended

7. Endangered Species Act of 1973

8. Executive Order 11990, Protection of Wetlands

9. Executive Order 13112, Invasive Species

10. Fish and Wildlife Coordination Act of 1934, as amended

11. Migratory Bird Treaty Act

12. Title VI of the Civil Rights Act of 1964, as amended

13. Executive Order 12898, Federal Actions to Address Environmental Justice in Minority and Low-Income Populations

14. National Historic Preservation Act of 1966, as amended

(Catalog of Federal Domestic Assistance Program Number 20.205, Highway Planning and Construction. The regulations implementing Executive Order 12372 regarding intergovernmental consultation on Federal programs and activities apply to this program.)

Authority: 23 U.S.C. 139(l)(1).

Issued on: December 16, 2019.
Tashia J. Clemons,
Director, Planning and Environment, Federal Highway Administration, California Division.

[FR Doc. 2019-27548 Filed 12-19-19; 8:45 am]

BILLING CODE 4910-RY-P